DEPARTMENT OF HEALTH AND HUMAN SERVICES

Health Resources and Services Administration

Agency Information Collection Activities: Submission to OMB for Review and Approval; Public Comment Request; The Teaching Health Center Graduate Medical Education (THCGME) Program Eligible Resident/Fellow FTE Chart

AGENCY: Health Resources and Services Administration (HRSA), Department of Health and Human Services.

ACTION: Notice.

SUMMARY: In compliance with the Paperwork Reduction Act of 1995, HRSA has submitted an Information Collection Request (ICR) to the Office of Management and Budget (OMB) for review and approval. Comments submitted during the first public review of this ICR will be provided to OMB. OMB will accept further comments from the public during the review and approval period.

DATES: Comments on this ICR should be received no later than October 21, 2019.

ADDRESSES: Submit your comments, including the ICR Title, to the desk officer for HRSA, either by email to OIRA_submission@omb.eop.gov or by fax to (202) 395-5806.

FOR FURTHER INFORMATION CONTACT: To request a copy of the clearance requests submitted to OMB for review, email Lisa Wright-Solomon, the HRSA Information Collection Clearance Officer at paperwork@hrsa.gov or call (301) 443-1984.

SUPPLEMENTARY INFORMATION: When submitting comments or requesting information, please include the ICR title for reference.

Information Collection Request Title: The Teaching Health Center Graduate Medical Education (THCGME) Program Eligible Resident/Fellow FTE Chart OMB No. 0915-0367 − Extension

Abstract: THCGME Program, Section 340H of the Public Health Service Act, was established by Section 5508 of Public Law 111-148. The Bipartisan Budget Act of 2018 (Pub. L. 115-123) provided continued funding for the THCGME Program. THCGME Program awards payment for both direct and indirect expenses to support training for primary care residents in community-based ambulatory patient care settings. THCGME Program Eligible Resident/Fellow Full-Time Equivalents (FTE) Chart, published in the THCGME Notice of Funding Opportunity (NOFO), is a means for determining the number of eligible resident/fellow FTE's in an applicant's primary care residency program.

A 60-day notice was published in the Federal Register on June 19, 2019, vol. 84, No. 118; pp. 28559—60. There were no public comments.

Need and Proposed Use of the Information: THCGME Program Eligible Resident/Fellow FTE Chart requires applicants to provide: (a) Data related to the size and/or growth of the residency program over previous academic years, (b) the number of residents enrolled in the program during the baseline academic year, and (c) a projection of the program's proposed expansion over the next five academic years. It is imperative that applicants complete this chart to quantify the total supported residents. THCGME funding is used to support an expanded number of residents in a residency program, to establish a new residency training program, or to maintain filled positions at existing programs. Utilization of a chart to gather this important information has decreased the number of errors in the eligibility review process resulting in a more accurate review and funding process, and comports with the regulatory requirement imposed by 45 CFR 75.206(a) “Standard application requirements, including forms for applying for HHS financial assistance, and state plans.”

Likely Respondents: Teaching Health Centers applying for THCGME funding through a THCGME NOFO process, which may include new applicants and existing awardees.

Burden Statement: Burden in this context means the time expended by persons to generate, maintain, retain, disclose or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
THCGME Program Eligible Resident/Fellow FTE Chart | 90 | 1 | 90 | 1 | 90
Total | 90 |  | 90 |  | 90

Maria G. Button,
Director, Division of the Executive Secretariat.

[FR Doc. 2019-20244 Filed 9-18-19; 8:45 am]

BILLING CODE 4165-15-P